DEPARTMENT OF JUSTICE

Notice of Lodging of Consent Decree Pursuant to Comprehensive Environmental Response, Compensation, and Liability Act

Notice is hereby given that on February 10, 2003, a proposed consent decree in United States versus Ponderosa Fibres of America, Inc., et al., Civil Action No. 99-CV-1305 (FJS/RWS), was lodged with the United States District Court for the Northern District of New York.

The United States' Amended Complaint in this action alleges that Ponderosa Fibres of America, Inc. (“PFA”), Martin Bernstein and Jerome Goodman are jointly and severally liable for past and future response costs, currently totaling over $1.5 million, incurred by the United States in connection with the U.S. Environmental Protection Agency's removal of hazardous substances from the St. Lawrence Pulp and Paper Superfund Site in Ogdensburg, St. Lawrence County, New York (“Site”).

The proposed Consent Decree, lodged on February 5, resolves the United States' cost recovery claim, pursuant to Section 107(a) of the Comprehensive Environmental Response, Compensation, and Liability Act (“CERCLA”), 42 U.S.C. 9607(a), and potential contribution claims by other parties against Defendant Jerome Goodman for $75,000, to be paid in two installments of $37,500 each, thirty (30) days and two years after entry of the Decree, respectively.

For a period of thirty (30) days from the date of this publication, the U.S. Department of Justice will accept comments relating to the proposed Consent Decree. Comments should be addressed to the Assistant Attorney General of the Environment and Natural Resources Division, U.S. Department of Justice, c/o David L. Weigert, Esq., Environmental Enforcement Section, PO Box 7611, Ben Franklin Station, Washington, DC 20044-7611, and should refer to United States versus Ponderosa Fibres of America, Inc., et al., Civil Action No. 99-CV-1305 (FJS/RWS), DJ # 90-11-2-1223/1.

The proposed Consent Decree may be examined at the Office of the United States Attorney, Northern District of New York, 231 Foley U.S. Courthouse, 445 Broadway, Albany, New York and at the offices of the U.S. Environmental Protection Agency, Region II, 290 Broadway, New York, New York. During the public comment period, the proposed Consent Decree may also be examined on the following Department of Justice Web site, http://www.usdoj.gov/enrd/open.html. A copy of the proposed Consent Decree may be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury.

Ronald G. Gluck,
Assistant Section Chief, Environmental Enforcement Section, Environment and Natural Resources Division, Department of Justice.

[FR Doc. 03-5881 Filed 3-11-03; 8:45 am]

BILLING CODE 4410-15-M